DEPARTMENT OF COMMERCE

National Oceanic and Atmospheric Administration

[RTID 0648-XB402]

North Pacific Fishery Management Council; Public Meeting

AGENCY: National Marine Fisheries Service (NMFS), National Oceanic and Atmospheric Administration (NOAA), Commerce.

ACTION: Notice of web conference.

SUMMARY: The North Pacific Fishery Management Council (Council) Halibut and Sablefish Individual Fishing Quota Committee (IFQ Committee) will meet.

DATES: The meeting will be held on Monday, September 27, 2021, from 9 a.m. to 4 p.m., Alaska Time.

ADDRESSES: The meeting will be a web conference. Join online through the link at https://meetings.npfmc.org/Meeting/Details/2500.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Sarah Marrinan, Council staff; phone; (907) 271-2809; email: sarah.marrinan@noaa.gov. For technical support please contact our admin Council staff, email: npfmc.admin@noaa.gov.

SUPPLEMENTARY INFORMATION:

Agenda

Monday, September 27, 2021

The IFQ Committee agenda will include the review of the Initial Review Analysis of an Omnibus IFQ amendment package. Under consideration in this package are proposed changes to regulations regarding the sablefish pot fishery: Including gear specifications, buoy requirements, pot limits, and gear retrieval. Additionally, this package considers authorizing jig gear as a legal gear type to harvest sablefish IFQ and temporarily removing the Adak CQE residency requirement. There will be time scheduled on the agenda for NMFS update on IFQ related issues and the Committee may also address other items of business as necessary. The agenda is subject to change, and the latest version will be posted at https://meetings.npfmc.org/Meeting/Details/2500 prior to the meeting, along with meeting materials.

Connection Information

You can attend the meeting online using a computer, tablet, or smart phone; or by phone only. Connection information will be posted online at: https://meetings.npfmc.org/Meeting/Details/2500.

Public Comment

Public comment letters will be accepted and should be submitted electronically to https://meetings.npfmc.org/Meeting/Details/2500.

Authority: 16 U.S.C. 1801 et seq.

Dated: September 3, 2021.
Tracey L. Thompson,
Acting Deputy Director, Office of Sustainable Fisheries, National Marine Fisheries Service.

[FR Doc. 2021-19486 Filed 9-7-21; 8:45 am]

BILLING CODE 3510-22-P